DEPARTMENT OF ENERGY

Federal Energy Regulatory Commission

[Docket No. RP00-482-003]

Reliant Energy Gas Transmission Company; Notice of Compliance Filing

May 8, 2002.

Take notice that on April 29, 2002, Reliant Energy Gas Transmission Company (REGT) tendered for filing as part of its FERC Gas Tariff, Fifth Revised Volume No. 1, tariff sheets to comply with the policy directives of the Commission's March 29, 2002 “Order on Order No. 637 Settlement.” The March 29 Order resolved REGT's Order No. 637 proceeding, Docket No. RP00-482-000, and two related proceedings, Docket Nos. RP01-12-000 and RP01-317-000.

REGT states that the purpose of this filing is to comply with the Commission's March 29 2002 Order in Docket Nos. RP00-482-000, RP01-12-000 and RP01-317-000.

Any person desiring to protest said filing should file a protest with the Federal Energy Regulatory Commission, 888 First Street, NE., Washington, DC 20426, in accordance with Section 385.211 of the Commission's rules and regulations. All such protests must be filed in accordance with Section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11998 Filed 5-13-02; 8:45 am]

BILLING CODE 6717-01-P